INTERNATIONAL TRADE COMMISSION

[Investigation No. 337-Ta-907]

Certain Vision-Based Driver Assistance System Cameras and Components Thereof; Commission Determination To Review in Part an Initial Determination Granting Complainant's Motion To Amend Complaint and Notice of Investigation and Partially Terminate the Investigation, and on Review To Modify the Initial Determination

AGENCY: U.S. International Trade Commission.

ACTION: Notice.

SUMMARY: Notice is hereby given that the U.S. International Trade Commission has determined to review in part an initial determination (“ID”) (Order No. 6) issued by the presiding administrative law judge (“ALJ”) granting complainant's motion to amend complaint and notice of investigation and to partially terminate the investigation. On review, the Commission has modified the ID to specify the claims of the patents that have been added to the investigation.

FOR FURTHER INFORMATION CONTACT: Michael Liberman, Esq., Office of the General Counsel, U.S. International Trade Commission, 500 E Street SW., Washington, DC 20436, telephone (202) 205-3115. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation under section 337 of the Tariff Act of 1930, as amended, 19 U.S.C. 1337, on January 28, 2014, based on a complaint filed by Magna Electronics Inc. of Auburn Hills, Michigan (“Magna,” or Complainant). See 79 FR 4490-91 (Jan. 28, 2014). The complaint alleges violations of section 337 of the Tariff Act of 1930, as amended, 19 U.S.C. 1337, in the importation into the United States, the sale for importation, and the sale within the United States after importation of certain vision-based driver assistance system cameras and components thereof by reason of infringement of certain claims of U.S. Patent Nos. 8,116,929 and 8,593,521 (“the '521 patent”). The complaint further alleges the existence of a domestic industry. The respondent named in the Commission's notice of investigation is TRW Automotive U.S., LLC of Livonia, Michigan (“TRW,” or Respondent). A Commission investigative attorney (“the IA”) is participating in the investigation.

On April 10, 2014, Complainant Magna filed a motion to amend the complaint and notice of investigation to add U.S. Patent Nos. 8,686,840 (“the '840 patent”) and 8,692,659 (“the '659 patent”). Magna's motion also included a conditional element whereby if the motion to amend is granted, then Magna moves to terminate the investigation in part as to all claims of the '521 patent. On April 21, 2014, Respondent filed a response opposing the motion. On the same day, the IA filed a response to Magna's motion stating that she does not oppose the motion.

On May 27, 2014, the ALJ issued the subject ID finding that good cause exists to grant Complainant's motion to amend the complaint and notice of investigation to add the '840 and '659 patents to this investigation and to terminate the investigation as to the '521 patent. On June 4, 2014, Respondent filed a timely petition for review of ALJ Order No. 6. On June 11, 2014, Complainant and the IA timely filed their respective responses opposing the petition.

Having examined the record in this investigation, including the subject ID, the petition for review, and the responses thereto, the Commission has determined to review the ID in part. Specifically, the Commission determined to review the first paragraph on page 7 of the subject ID and, on review, to modify it by clarifying that the notice of investigation is modified by adding claims 30 and 36 of the '840 patent and claims 3, 37, 80, and 92 of the '659 patent, as well as by terminating the investigation as to all claims of the '521 patent. The Commission has determined not to review the remainder of the ID.

The authority for the Commission's determination is contained in section 337 of the Tariff Act of 1930, as amended (19 U.S.C. 1337), and in Part 210 of the Commission's Rules of Practice and Procedure (19 CFR Part 210).

By order of the Commission.
Issued: June 26, 2014.
Lisa R. Barton,
Secretary to the Commission

[FR Doc. 2014-15413 Filed 6-30-14; 8:45 am]

BILLING CODE 7020-02-P